DEPARTMENT OF LABOR

Bureau of Labor Statistics

Federal Economic Statistics Advisory Committee; Notice of Open Meeting and Agenda

The initial meeting of the Federal Economic Statistics Advisory Committee will be held on June 15, 2000 in the Postal Square Building, 2 Massachusetts Avenue N.E., Washington, DC.

The Federal Economic Statistics Advisory Committee is a technical committee composed of economists, statisticians, and behavioral scientists who are recognized for their attainments and objectivity in their respective fields. Committee members will be called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1 and 2 of the Postal Square Building Conference Center. The schedule and agenda for the meeting are as follows:

9:00 Opening Session

1. Purpose of the Committee

2. Introduction of members and statements of their research interests

3. Committee operating procedures

10:15 The Measurement of E-commerce

1:00 Service Sector Measurement: The Case of Banking

2:45 Bureau of the Census and Bureau of Labor Statistics Establishment Lists

3:45 Ethics, Rules and Regulations

4:15 Future Agenda Topics

5:00 Conclude (approximate time)

The meeting is open to the public. It is suggested that persons planning to attend the meeting as observers contact Margaret Johnson, Federal Economic Research Advisory Committee, on Area Code (202) 691-5600. Persons needing special assistance such as sign language interpretation or other special accommodation in order to attend the meeting are asked to contact Ms. Johnson at least two days prior to the meeting date.

Signed at Washington, D.C. the 19th day of May 2000.
Katharine G. Abraham,
Commissioner of Labor Statistics.

[FR Doc. 00-13248 Filed 5-25-00; 8:45 am]

BILLING CODE 4510-24-P